DEPARTMENT OF THE INTERIOR

Bureau of Land Management

(MTM 90527; IDI 33690)

Notice of Proposed Withdrawal and Opportunity for Public Meeting; Montana and Idaho

AGENCY: Bureau of Land Management, Interior.

ACTION: Notice.

SUMMARY: The U.S. Department of Agriculture, Forest Service, has filed an application to withdraw 2,548.42 acres of National Forest System land to preserve the unique resources of Lemhi Pass National Historic Landmark. This notice closes the land for up to 2 years from location and entry under the United States mining laws. The land will remain open to all activities currently consistent with applicable Forest plans and those related to exercise of valid existing rights.

DATES: Comments and requests for a public meeting must be received by March 19, 2001.

ADDRESSES: Comments and meeting requests should be sent to the Forest Supervisor, Beaverhead-Deerlodge National Forest, 420 Barrett Street, Dillon, Montana 59725-3572.

FOR FURTHER INFORMATION CONTACT: Katie Bump, Project Coordinator, Beaverhead-Deerlodge National Forest, 420 Barrett Street, Dillon, Montana 59725-3572.

SUPPLEMENTARY INFORMATION: On November 28, 2000, the Forest Service filed an application to withdraw the following-described National Forest System land from location and entry under the United States mining laws, but not the mineral leasing laws, subject to valid existing rights:

Principal Meridian, Montana

Beaverhead-Deerlodge National Forest (462.16 acres)

T. 10 S., R. 15 W.,

Sec. 9, lots 1 to 4, inclusive, and E½E½;

Sec. 16, lots 1 and 2, and E½NE¼.

Boise Meridian

Salmon-Challis National Forest (1,043.13 acres)

T. 19 N., R. 25 E.,

Sec. 10, S½SE¼;

Sec. 11, lot 4, S½SW¼, and SW¼SE¼;

Sec. 14, lots 1 to 5, inclusive, lots 7 and 8, NW¼, and W½E½;

Sec. 15, NE¼ and N½SE¼.

The area described contains approximately 2,548.42 acres in Beaverhead County, Montana, and Lemhi County, Idaho.

In addition, any non-federal lands within the boundary described above, if acquired by the United States, would become subject to the terms and conditions of this withdrawal.

For a period of 90 days from the date of publication of this notice, all persons who wish to submit comments, suggestions, or objections in connection with the proposed withdrawal may present their views in writing to the Forest Supervisor, Beaverhead-Deerlodge National Forest, at the address indicated above.

Notice is hereby given that an opportunity for a public meeting is afforded in connection with the proposed withdrawal. All interested persons who desire a public meeting for the purpose of being heard on the proposed withdrawal must submit a written request to the Forest Supervisor at the address indicated above within 90 days from the date of publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the land will be segregated as specified above unless the application is denied or canceled or the withdrawal is approved prior to that date. The temporary land uses which may be permitted during this segregative period include all activities currently consistent with applicable Forest plans and those related to exercise of valid existing rights, including public recreation and other activities compatible with preservation of Lemhi Pass National Historic Landmark and the Lewis and Clark National Historic Trail.

Dated: December 7, 2000
Howard A. Lemm,
Chief, Branch of Land Resources, Division of Resources.

[FR Doc. 00-32293 Filed 12-18-00; 8:45 am]

BILLING CODE 3410-11-P